DEPARTMENT OF JUSTICE

Antitrust Division

Notice Pursuant To the National Cooperative Research and Production Act of 1993—Information Warfare Research Project Consortium

Notice is hereby given that, on November 9, 2020, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, ADI Technologies Inc., Chantilly, VA; Advent SVCS LLC., Panama City, FL; AIRBUS U.S. Space & Defense Inc., Herndon, VA; Alteryx Inc., Irvine, CA; Analytical Graphics Inc., Exton, PA; Anduril Industries Inc., Irvine, CA; Blue Danube Systems Inc., Santa Clara, CA; Boonton Electronics, A wireless Telecom Group CO., Parsippany, NJ; Cask NX LLC, San Diego, CA; Celona Inc., Cupertino, CA; CohesionForce Inc., Huntsville, AL; Cyberspace Solutions LLC, Herndon, VA; Darkblade Systems Corporation, Winchester, VA; Dynamic Dimension Technologies LLC, Westminster, MD; Elder, Robert James (dba) Strategy Alternative Consulting, Shreveport, LA; Frequency Electronics Inc., Uniondale, NY; Future Tense LLC, Ashburn, VA; General Atomics Electromagnetic Systems (EMS), San Diego, CA; Genus Group LLC, North Potomac, MD; Gnostech LLC, Warminster, PA; Hashlit Inc., dba Corsha, Vienna, VA; High Tide Technology LLC, N. Charleston, SC; iC-1 Solutions LLC, Herndon, VA; IDEAMATICS Inc., McLean, VA; Idemia National Security Solutions LLC, Alexandria, VA; Infiltron Software Suite, Warner Robins, GA; JC3 LLC, Rockbridge Baths, VA; JCS Solutions LLC, Fairfax, VA; John Mezzalingua Associates LLC, dba JMA Wireless, Liverpool, NY; Knight Sky LLC, Frederick, MD; Kranze Technology Solutions Inc., Prospect Heights, IL; LAINE LLC, Goose Creek, SC; LOCATORX INC., Suwanee, GA; Lockheed Martin Rotary and Missions Systems (BU), Colorado Springs, CO; MAG DS Corp (dba MAG Aerospace),Fairfax, VA; Mobilestack Inc., Dublin, CA; Motorola Solutions Inc., US Federal Markets Division, Linthicum MD; Mythics Inc., Virginia Beach, VA; Nakupuna Solutions, Arlington, VA; Otava Inc., Moorestown, NJ; Oteemo Inc., Reston, VA; Pinnacle Consulting Team LLC, Bridgeton, MO; Presence Product Group LLC, San Francisco, CA; Presidio Networked Solutions LLC, Fulton, MD; Rajant Corporation, Malvern, PA; Raytheon Applied Signal Technology Inc., Anaheim, CA; Red Hat Inc., with Red Hat Professional Consulting Inc., Raleigh, NC; Rincon Research Corporation, Tucson, AZ; Scalable Network Technologies Inc., Culver City, CA; SecureCo, New York, NY; SecureLogix Corporation, San Antonio, TX; SES Government Solutions Inc., Reston, VA; Silver Palm Technologies LLC, Ijamsville MD; Simba Chain INC., Plymouth, IN; Stephenson Technologies Corporation, Baton Rouge, LA; Systems Engineering Group Inc., Columbia, MD; Technology Advancement Group Inc., (TAG),Dulles, VA; Tercero Technologies LLC, Pittsburgh, PA; The Boeing Company, Long Beach, CA; The Regents of the University of Colorado, Boulder, CO; Tracen Technologies Inc., Manassas, VA; Vannevar Labs, Palo Alto, CA; and XR2LEAD LLC, Dumfries, VA have been added as parties to this venture.

Also, Cask Technologies LLC., San Diego, CA; CommTech Systems Inc., El Cajo, CA; and ODME Solutions LLC., San Diego, CA have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on July 14, 2020. A notice was published in the Federal Register pursuant to Section 6(b) of the Act on August 3, 2020 (85 FR 46729).

Suzanne Morris,
Chief, Premerger and Division Statistics, Antitrust Division.

[FR Doc. 2020-25698 Filed 11-19-20; 8:45 am]

BILLING CODE P